DEPARTMENT OF AGRICULTURE

Forest Service

Huron-Manistee Resource Advisory Committee

AGENCY: Forest Service, USDA.

ACTION: Notice of meeting.

SUMMARY: The Huron-Manistee Resource Advisory Committee (RAC) will meet in Mio, Michigan. The committee is meeting as authorized under the Secure Rural Schools and Community Self-Determination Act (Pub. L. 110-343) and in compliance with the Federal Advisory Committee Act. The purpose of the meeting is to hold the first meeting of the newly formed committee.

DATES: The first meeting will be held Thursday April 21, 2011, 6:30 p.m. to 9:30 p.m.

ADDRESSES: The meeting will be held at the Mio Ranger Station, 107 McKinley Road, Mio, MI. Written comments should be sent to Huron-Manistee National Forests RAC, c/o Mio Ranger Station, 107 McKinley Road, Mio, MI 48647. Comments may also be sent via e-mail to cnscott@fs.fed.us, or via facsimile to (989) 826-6073.

All comments, including names and addresses when provided, are placed in the record and are available for public inspection and copying. The public may request to inspect comments received at the Mio Ranger Station.

FOR FURTHER INFORMATION CONTACT: Steven Goldman, Designated Federal Official or Carrie Scott, Natural Resource Planner, Huron-Manistee National Forests, Mio Ranger Station, 107 McKinley Road, Mio, MI 48647; (989) 826-3252.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Introduction of all committee members, alternate members and Forest Service personnel; (2) Selection of a committee chairperson; (3) Review of materials explaining the processes for recommending and considering Title II projects; and (4) Public comment.

Dated: March 24, 2011.
Steven A. Goldman,
Designated Federal Official.

[FR Doc. 2011-7574 Filed 3-30-11; 8:45 am]

BILLING CODE 3410-11-P